COMMITTEE FOR PURCHASE FROM PEOPLE WHO ARE BLIND OR SEVERELY DISABLED

Procurement List; Proposed Additions and Deletions

AGENCY: Committee for Purchase From People Who Are Blind or Severely Disabled.

ACTION: Proposed additions to and deletions from procurement List.

SUMMARY: The Committee is proposing to add to the Procurement List products and services to be furnished by nonprofit agencies employing persons who are blind or have other severe disabilities, and to delete a service previously furnished by such agencies.

Comments Must Be Received on or Before: September 1, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

Additions

If the Committee approves the proposed additions, the entities of the Federal Government identified in this notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Cup, Paper, Disposable, Hot,

7350-00-NIB-0177,

7350-00-NIB-0178.

NPA: The Lighthouse for the Blind in New Orleans, New Orleans, Louisiana.

Contract Activity: GSA, General Products Center, Fort Worth, Texas.

Product/NSN: Handle Assembly,

3895-01-135-2538.

NPA: Knox County ARC, Knoxville, Tennessee.

Contract Activity: Defense Supply Center Philadelphia, Philadelphia, Pennsylvania.

Product/NSN: Lewis & Clark Discovery Box,

7125-00-R10-0001 (Lightweight Box),

7125-00-R10-0002 (Cabbage Box).

NPA: Development Workshop, Inc., Idaho Falls, Idaho.

Contract Activity: U.S. Army Corps of Engineers, Omaha, Nebraska.

Product/NSN: Junior Wooden Kitchen Set,

M.R. 808.

NPA: Winston-Salem Industries for the Blind, Winston-Salem, North Carolina.

Contract Activity: Defense Commissary Agency (DeCA), Ft. Lee, Virginia.

Services

Service Type/Location: Dining Facility Attendant Services,

At the following locations:

29th Engineering Battalion, Fort Shafter, Hawaii.

Aviation Brigade Dinning Facility, Building 102, Wheeler Army Airfield, Hawaii.

HHC 25th Infantry Division Lite, Buildings 133, 6056, 550, 855 and 1492, Schofield Barracks, Hawaii.

NPA: Opportunities for the Retarded, Inc., Wahiawa, Hawaii.

Contract Activity: U.S. Army Support Command, Fort Shafter, Hawaii.

Service Type/Location: Janitorial/Custodial,

U.S. Air Force/Marine Corps Recruiting Office, Aiea, Hawaii.

U.S. Army Recruiting Office, Aiea, Hawaii.

U.S. Army Recruiting Office, Honolulu, Hawaii.

U.S. Army Recruiting Office, Kaneohe, Hawaii.

U.S. Marine Corps Recruiting Office, Honolulu, Hawaii.

U.S. Navy Recruiting Office, Aiea, Hawaii.

U.S. Navy, Marine Corps & Air Force Recruiting Office, Kaneohe, Hawaii.

NPA: Network Enterprises, Inc., Honolulu, Hawaii.

Contract Activity: U.S. Army Engineer District, Honolulu, Honolulu, Hawaii.

Service Type/Location: Janitorial/Related Services,

U.S. Border Patrol Station, Air Operations, Yuma, Arizona.

U.S. Border Patrol Station, Blythe Office, Blythe, California (Janitorial and Grounds Maintenance).

U.S. Border Patrol Station, Maintenance Facility, Yuma, Arizona.

U.S. Border Patrol Station, Station Office, Yuma, Arizona.

U.S. Border Patrol Station, Traffic Check Point, Highway #78, Arizona.

U.S. Border Patrol Station, Traffic Check Point, Highway #95, Arizona.

U.S. Border Patrol Station, Traffic Check Point, Interstate 8, Arizona.

U.S. Border Patrol Station, Wellton Office, Wellton, Arizona.

NPA: Yuma WORC Center, Inc., Yuma, Arizona.

Contract Activity: Immigration and Naturalization Service, DOJ.

Service Type/Location: Mailroom Support Services, BLM—Arizona State Offices, Phoenix, Arizona.

NPA: The Centers for Habilitation/TCH, Tempe, Arizona.

Contract Activity: Bureau of Land Management—Arizona, Phoenix, AZ.

Service Type/Location: Medical Transcription,

VA Medical Center, West Los Angeles, Los Angeles, California.

NPA: Landmark Services, Inc., Santa Ana, California.

Contract Activity: VA Network Business Center, San Diego, California.

Service Type/Location: Vehicle Maintenance,

Basewide, Fort Lewis, Washington.

NPA: Skookum Educational Programs, Port Townsend, Washington.

Contract Activity: USA, Intermediate Brigade Combat Team, Fort Lewis, Washington.

Deletions

I certify that the following action will not have a significant impact on a substantial number of small entities. The major factors considered for this certification were:

1. If approved, the action will not result in any additional reporting, recordkeeping or other compliance requirements for small entities other than the small organizations that will furnish the service to the Government.

2. If approved, the action will result in authorizing small entities to furnish the service to the Government.

3. There are no known regulatory alternatives which would accomplish the objectives of the Javits-Wagner-O'Day Act (41 U.S.C. 46-48c) in connection with the service proposed for deletion from the Procurement List.

The following service is proposed for deletion from the Procurement List:

Service

Service Type/Location: Janitorial/Grounds Maintenance,

Nininger U.S. Army Reserve Center, Fort Lauderdale, Florida.

NPA: Goodwill Industries of Broward County, Inc., Fort Lauderdale, Florida.

Contract Activity: U.S. Army, 81st Regional Support Command, Fort Lauderdale, Florida.

Sheryl D. Kennerly,
Director, Information Management.

[FR Doc. 02-19527 Filed 8-1-02; 8:45 am]

BILLING CODE 6353-01-P